DEPARTMENT OF HEALTH AND HUMAN SERVICES

Food and Drug Administration

[FDA 225-00-800]

Memorandum of Understanding Between the Food and Drug Administration and the Centers for Disease Control and Prevention

AGENCY: Food and Drug Administration, HHS.

ACTION: Notice.

SUMMARY: The Food and Drug Administration (FDA) is providing notice of a memorandum of understanding (MOU) between FDA and the Centers for Disease Control and Prevention. The purpose of the MOU is to provide a framework for coordination and collaborative efforts, and provide the principles and procedures by which information exchanges shall take place.

DATES: The agreement became effective June 26, 2000.

FOR FURTHER INFORMATION CONTACT: Ellen F. Morrison, Office of Regulatory Affairs (HFC-130), Food and Drug Administration, 5600 Fishers Lane, Rockville, MD 20857, 301-827-5660.

SUPPLEMENTARY INFORMATION: In accordance with 21 CFR 20.108(c), which states that all written agreements and MOU's between FDA and others shall be published in the Federal Register, the agency is publishing notice of this MOU.

Dated: December 3, 2000.
Margaret M. Dotzel,
Associate Commissioner for Policy.

BILLING CODE 4160-01-F

[FR Doc. 00-31591 Filed 12-11-00; 8:45 am]

BILLING CODE 4160-01-C